DEPARTMENT OF COMMERCE

International Trade Administration

(A-428-825)

Stainless Steel Sheet and Strip in Coils From Germany: Extension of Time Limit for Preliminary Results of Antidumping Duty Administrative Review

AGENCY: Import Administration, International Trade Administration, Department of Commerce.

EFFECTIVE DATE: March 28, 2005.

FOR FURTHER INFORMATION CONTACT: Deborah Scott, Tyler Weinhold, or Robert James, AD/CVD Operations, Office 7, Import Administration, International Trade Administration, U.S. Department of Commerce, 14th Street and Constitution Avenue, NW, Washington DC 20230; telephone: (202) 482-2657, (202) 482-1121, or (202) 482-0649, respectively.

Background

On July 30, 2004, the Department of Commerce (the Department) received timely requests to conduct an administrative review of the antidumping duty order on stainless steel sheet and strip in coils from Germany. On August 30, 2004, the Department published a notice of initiation of this administrative review, covering the period of July 1, 2003 through June 30, 2004. (69 FR 52857). The preliminary results are currently due no later than April 2, 2005.

Extension of Time Limits for Preliminary Results

Section 751(a)(3)(A) of the Tariff Act of 1930, as amended (the Act), requires the Department to complete the preliminary results of an administrative review within 245 days after the last day of the anniversary month of an order for which a review is requested. However, if it is not practicable to complete the review within these time periods because the review is extraordinarily complicated, section 751(a)(2)(B)(iv) of the Act allows the Department to extend the time limit for the preliminary results to a maximum of 365 days after the last day of the anniversary month of an order for which a review is requested.

The Department has determined it is not practicable to complete this review within the statutory time limit, because of the complicated issues in this review, including the reporting of home market downstream sales and the reporting of physical product characteristics. Analysis of these issues requires additional time and makes it impracticable to complete the preliminary results of this review within the originally anticipated time limit. Accordingly, the Department is extending the time limit for completion of the preliminary results of this administrative review until no later than August 1, 2005, which is the next business day after 365 days from the last day of the anniversary month. We intend to issue the final results no later than 120 days after publication of the preliminary results notice.

March 22, 2005.
Barbara E. Tillman,
Acting Deputy Assistant Secretary for Import Administration.

[FR Doc. E5-1367 Filed 3-25-05; 8:45 am]

BILLING CODE 3510-DS-S